DEPARTMENT OF HEALTH AND HUMAN SERVICES

Centers for Medicare & Medicaid Services

42 CFR Parts 405, 410, 411, 414, 415, and 495

[CMS-1693-P]

RIN 0938-AT31

Medicare Program; Revisions to Payment Policies Under the Physician Fee Schedule and Other Revisions to Part B for CY 2019; Medicare Shared Savings Program Requirements; Quality Payment Program; and Medicaid Promoting Interoperability Program

Correction

In proposed rule document 2018-14985, appearing on pages 35704 through 36368 in the issue of Friday, July 27, 2018, make the following correction:

On page 35978, Figure A is corrected to read as set forth below.

[FR Doc. C1-2018-14985 Filed 8-6-18; 4:15 pm]

BILLING CODE 1301-00-D